DEPARTMENT OF HEALTH AND HUMAN SERVICES

Administration for Community Living

Agency Information Collection Activities; Proposed Collection; Public Comment Request; Centers for Independent Living Program Performance Report (0985-0061)

AGENCY: Administration for Community Living, HHS.

ACTION: Notice.

SUMMARY: The Administration for Community Living (ACL) is announcing an opportunity for the public to comment on the proposed collection of information listed above. Under the Paperwork Reduction Act of 1995 (the PRA), Federal agencies are required to publish a notice in the Federal Register concerning each proposed collection of information, including each proposed extension of an existing collection of information, and to allow 60 days for public comment in response to the notice. This proposed revision of a currently approved information collection request (ICR Rev) solicits comments on the information collection requirements related to the Centers for Independent Living (CILs) under the Rehabilitation Act of 1973, 29 U.S.C. 701, et seq. (the Act).

DATES: Comments on the collection of information must be submitted electronically by 11:59 p.m. (ET) or postmarked by January 28, 2025.

ADDRESSES: Submit electronic comments on the collection of information to: Peter Nye at OILPPRAComments@acl.hhs.gov. Submit written comments on the collection of information to Administration for Community Living, Washington, DC 20201, Attention: Peter Nye.

FOR FURTHER INFORMATION CONTACT: Peter Nye, Administration for Community Living, Washington, DC 20024, (202) 795-7606 or OILPPRAComments@acl.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to Office of Management and Budget for approval. To comply with this requirement, ACL is publishing a notice of the proposed collection of information set forth in this document. With respect to the following collection of information, ACL invites comments on our burden estimates or any other aspect of this collection of information, including:

(1) whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including through the use of automated collection techniques when appropriate, and other forms of information technology.

Independent living (IL) programs, including CILs, are authorized by the Act to “promote a philosophy of independent living including a philosophy of consumer control, peer support, self-help, self-determination, equal access, and individual and system advocacy, in order to maximize the leadership, empowerment, independence, and productivity of individuals with disabilities, and the integration and full inclusion of individuals with disabilities into the mainstream of American society” (Title VII, chapter 1). This request is for the CIL Program Performance Report (PPR), which is submitted annually by all CILs receiving IL Subchapter C funds. The PPRs are used by ACL to assess grantees' compliance with title VII of the Act, with 45 CFR part 1329 of the Code of Federal Regulations, and with applicable provisions of the HHS Regulations at 45 CFR part 75. The PPR serves as the primary basis for ACL's monitoring activities in fulfillment of its responsibilities under sections 706 and 722 of the Act. The PPR is also used by ACL to design CIL and Statewide Independent Living Council training and technical assistance programs authorized by sections 711A and 721 of the Act.

This revision adds the collection of sexual-orientation and gender-identity (SOGI) data elements consistent with Executive Orders: 13985 Advancing Racial Equity and Support for Underserved Communities Through the Federal Government; 13988 Preventing and Combating Discrimination on the Basis of Gender Identity and Sexual Orientation and 14075 Advancing Equality for Lesbian, Gay, Bisexual, Transgender, Queer, and Intersex Individuals. ACL will adhere to best practices for collection of all demographic information in accordance with Office of Management and Budget (OMB) guidance—including, but not limited to guidance specific to the collection of SOGI. In addition, measures were added around the nature of CIL board governance and number of full-time equivalent positions filled by individuals with significant disabilities to affirm adherence to statutory requirements. Additional measures were also added to allow CILs to report carryover funding and to count the total number of services provided by consumer, as well as to describe their collaborations. These measures were added based on the request of stakeholders to yield more precise data that show impact. With the addition of these four measures, eleven other measures are suggested to be removed to increase efficiency and remove redundancy and unnecessary information. The revised CIL PPR instrument is expected to take less time than the prior instrument.

The proposed data collection tool may be found on the ACL website for review at https://www.acl.gov/about-acl/public-input.

Estimated Program Burden

ACL estimates the burden for new measures added as follows: 351 CILs completing one CIL PPR annually, taking an estimated time of 36 hours per CIL for total of 12,708 annual burden hours. This burden estimate is based partly on OILP's estimates of how long CILs take to complete the PPRs as well as feedback gathered from CILs to ACL.

Respondent/data collection activity | Number of respondents | Responses per respondent | Hours per response | Annual burden hours
CIL | 351 | 1 | 36 | 12,636

Dated: November 25, 2024.
Maura Calsyn,
Principal Deputy Administrator for the Administration for Community Living, performing the delegable duties of the Administrator and the Assistant Secretary for Aging.

[FR Doc. 2024-28052 Filed 11-27-24; 8:45 am]

BILLING CODE 4154-01-P